DEPARTMENT OF JUSTICE

Antitrust Division

Notice Pursuant to the National Cooperative Research and Production Act of 1993—Undersea Technology Innovation Consortium

Notice is hereby given that, on January 10, 2024, pursuant to section 6(a) of the National Cooperative Research and Production Act of 1993, 15 U.S.C. 4301 et seq. (“the Act”), Undersea Technology Innovation Consortium (“UTIC”) has filed written notifications simultaneously with the Attorney General and the Federal Trade Commission disclosing changes in its membership. The notifications were filed for the purpose of extending the Act's provisions limiting the recovery of antitrust plaintiffs to actual damages under specified circumstances. Specifically, Absolute Concept Designs LLC, Rio Rancho, NM; American Systems Corporation, Middletown, RI; Integer Technologies LLC, Columbia, SC; MetalTek International, Waukesha, WI; National Instruments Corporation, Austin, TX; Sentient Digital, Inc., New Orleans, LA; and The Boeing Company, Ridley Park, PA, have been added as parties to this venture.

Also, Armada Marine Robotics, Inc., Falmouth, MA; Baker Manufacturing, Inc., Tacoma, WA; C-2 Innovations, Inc., Stow, MA; Careen, Inc. dba Windings, Inc., New Ulm, MN; Cisco Systems, Inc., San Jose, CA; Consolidated Ocean Technologies, Inc., Ventura, CA; Critical Prism Defense LLC, Ashland, MA; Cynnovative LLC, Arlington, VA; DataRobot, Inc., Boston, MA; Ensign-Bickford Aerospace & Defense Company, Simsbury, CT; Greystones Consulting Group LLC, Washington, DC; Longwave, Inc., Oklahoma City, OK; ManTech Advanced Systems International, Inc., Herndon, VA; Maritime Planning Associates, Inc., Newport, RI; MBDA, Inc., Huntsville, AL; Modern Intelligence, Inc., Austin, TX; Palantir USG, Inc., Palo Alto, CA; Phoenix International Holdings, Inc., Largo, MD; RJE International, Inc., Irvine, CA; Saft America, Inc., Cockeysville, MD; Syntonics LLC, Columbia, MD; The Metamorphosis Group, Inc., Vienna, VA; University of Houston Systems, Houston, TX; Urban Electric Power, Inc., Pearl River, NY; and, Ward Leonard CT LLC, Thomaston, CT, have withdrawn from this venture.

No other changes have been made in either the membership or planned activity of the group research project. Membership in this group research project remains open, and UTIC intends to file additional written notifications disclosing all changes in membership.

On October 9, 2018, UTIC filed its original notification pursuant to section 6(a) of the Act. The Department of Justice published a notice in the Federal Register pursuant to section 6(b) of the Act on November 2, 2018 (83 FR 55203).

The last notification was filed with the Department on October 6, 2023. A notice was published in the Federal Register pursuant to section 6(b) of the Act on December 15, 2023 (88 FR 86939).

Suzanne Morris,
Deputy Director Civil Enforcement Operations, Antitrust Division.

[FR Doc. 2024-07937 Filed 4-15-24; 8:45 am]

BILLING CODE P